ENVIRONMENTAL PROTECTION AGENCY

[OECA-2005-0030; FRL-7978-9]

Agency Information Collection Activities; Submission for OMB Review and Approval; Comment Request; NESHAP for Source Categories: Generic Maximum Achievable Control Technology Standards (Renewal), ICR Number 1871.04, OMB Control Number 2060-0420

AGENCY: Environmental Protection Agency (EPA).

ACTION: Notice.

SUMMARY: In compliance with the Paperwork Reduction Act, this document announces that an Information Collection Request (ICR) has been forwarded to the Office of Management and Budget (OMB) for review and approval. This is a request to renew an existing approved collection. This ICR is scheduled to expire on December 31, 2005. Under OMB regulations, the Agency may continue to conduct or sponsor the collection of information while this submission is pending at OMB. This ICR describes the nature of the information collection and its estimated burden and cost.

DATES: Additional comments may be submitted on or before November 3, 2005.

ADDRESSES: Submit your comments, referencing docket ID number OECA-2005-0030, to (1) EPA online using EDOCKET (our preferred method), by e-mail to docket.oeca@epa.gov, or by mail to: EPA Docket Center, Environmental Protection Agency, Enforcement and Compliance Docket and Information Center, Mail Code 2201T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Learia Williams, Compliance Assessment and Media Programs Division, Office of Compliance, Mail Code 2223A, Environmental Protection Agency, 1200 Pennsylvania Ave., NW., Washington, DC 20460; telephone number: (202) 564-4113; fax number: (202) 564-0050; e-mail address: williams.learia@epa.gov.

SUPPLEMENTARY INFORMATION: EPA has submitted the following ICR to OMB for review and approval according to the procedures prescribed in 5 CFR 1320.12. On May 6, 2005 (70 FR 24020), EPA sought comments on this ICR pursuant to 5 CFR 1320.8(d). EPA received no comments.

EPA has established a public docket for this ICR under Docket ID Number OECA-2005-0030, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center Docket is: (202) 566-1752. An electronic version of the public docket is available through EPA Dockets (EDOCKET) at http://www.epa.gov/edocket. Use EDOCKET to submit or view public comments, access the index listing of the contents of the public docket, and to access those documents in the public docket that are available electronically. When in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: NESHAP for Source Categories: Generic Maximum Achievable Control Technology Standards (Renewal).

Abstract: The National Emission Standards for Hazardous Air Pollutants (NESHAP) for Source Categories: Generic Maximum Achievable Control Technology (hereafter, this subpart is referred to as the “generic MACT”), published at 40 CFR part 63, subpart YY, were proposed on October 14, 1998 (63 FR 55178), and promulgated on June 29, 1999 (64 FR 34854). The rule addressed hazardous air pollutant (HAP) emission sources in these four source categories: Polycarbonates (PC) Production, Acrylic and Modacrylic Fibers (AMF) Production, Acetal Resins (AR) Production and Hydrogen Fluoride (HF) Production. On November 22, 1999, the Agency proposed wastewater provisions amendments (64 FR 63779) to the promulgated generic MACT applicable to the AR, AMF, and PC production source categories. The HF production source category does not have wastewater streams.

Respondents are required to submit one-time only reports of the (1) start of construction for new facilities or an initial notification if it is an existing source at the time of rule promulgation, (2) anticipated and actual start-up dates for new facilities, and (3) physical or operational changes to existing facilities. Owners and operators must also submit periodic reports (semiannual or according to the schedule for Title V), and leak detection and repair (LDAR) semiannual reports which could be submitted with the periodic reports. The specific monitoring and recordkeeping requirements will vary for each of the four source categories depending on the required control equipment and monitoring equipment. All records and reports are to be maintained by the facility for a minimum of five years.

All reports are sent to the delegated state or local authority. In the event that there is no such delegated authority, the reports are sent directly to the EPA regional office.

An agency may not conduct or sponsor, and a person is not required to respond to, a collection of information unless it displays a currently valid OMB Control Number. The OMB Control Numbers for EPA's regulations are listed in 40 CFR part 9 and 48 CFR chapter 15, and are identified on the form and/or instrument, if applicable.

Burden Statement: The annual public reporting and recordkeeping burden for this collection of information is estimated to average 133 hours per response. Burden means the total time, effort, or financial resources expended by persons to generate, maintain, retain, disclose or provide information to or for a Federal agency. This includes the time needed to review instructions; to develop, acquire, install, and utilize technology and systems for the purposes of collecting, validating, and verifying information, processing and maintaining information, and disclosing and providing information; to adjust the existing ways to comply with any previously applicable instructions and requirements; to train personnel to be able to respond to a collection of information; to search data sources; to complete and review the collection of information; and to transmit or otherwise disclose the information.

Respondents/Affected Entities: Owners or operators of acetal resins production, acrylic and modacrylic fibers production, hydrogen fluoride production, and polycarbonates production.

Estimated Number of Respondents: 10.

Frequency of Response: On occasion, semiannually, and initally.

Estimated Total Annual Hour Burden: 4,004 hours.

Estimated Total Annual Costs: $438,560, which includes $0 annualized Capital/startup costs, $107,414 in annual O&M costs, and $331,146 in Respondent Labor costs.

Changes in the Estimates: There is a decrease of 73 hours in the estimated burden currently identified in the OMB Inventory of Approved ICR Burdens. This is due to minor calculation errors in the active ICR. There is an increase in the labor costs associated with this ICR, which is due to an updated hourly wage rate that is provided by the United States Department of Labor. Because there are no new sources with reporting requirements, no capital/startup costs are incurred. A cost of $107,414 per year, is incurred for operation and maintenance of the emission monitoring equipment with this ICR.

Dated: September 21, 2005.
Oscar Morales,
Director, Collection Strategies Division.

[FR Doc. 05-19866 Filed 10-3-05; 8:45 am]

BILLING CODE 6560-50-P